DEPARTMENT OF THE INTERIOR

Bureau of Land Management

[OR-110-6332-DQ; HAG-02-0284]

Notice of Availability of the Proposed Hellgate Recreation Area Management Plan/Final Environmental Impact Statement (FEIS) for the 27-Mile Section of the Rogue National Wild and Scenic River (From the Mouth of the Applegate River to Grave Creek)

AGENCY: Bureau of Land Management, Medford District Office, Grants Pass Resource Area.

SUMMARY: In accordance with section 202 of the National Environmental Policy Act of 1969 and section 202 of the Federal Land Policy and Management Act of 1976, a Recreation Area Management Plan and FEIS have been completed for a portion of the Medford District. The FEIS describes and analyzes future options for managing the 27-mile section of the Rogue National Wild and Scenic River (from the mouth of the Applegate River to Grave Creek) in southern Josephine County, Oregon.

The Rogue River was one of eight rivers identified as part of the National Wild and Scenic Rivers System when the Wild and Scenic Rivers Act was passed in 1968. Designated rivers are classified as wild, scenic, or recreational. The 27-mile stretch of the Rogue National Wild and Scenic River Hellgate Recreation Area from the confluence of the Applegate River to Grave Creek was classified as a recreational river.

The need for action is based on BLM visitor use reports that show increases in water-based visitor use activities, a recreation use study, and public scoping efforts, which identified visitor use conflicts, particularly between jet boaters and floaters during the summer months and between jet boaters and anglers during the fall fishing season. The purpose of the action is to: (1) Replace the 1978 Rogue National Wild and Scenic River Activity Plan for the Hellgate Recreation Section of the Rogue National Wild and Scenic River, (2) provide management direction and guidance on the management of the Hellgate section pursuant to the Wild and Scenic Rivers Act (Public Law 90-542, October 2, 1968, (3) conform with management direction contained in the 1995 Medford District Record of Decision and Resource Management Plan, and (4) maintain a mix of river recreation uses and users common to the river since its designation in 1968 as a National Wild and Scenic river.

The FEIS analyzes five alternatives ranging from fewer watercraft and less visitor use to maximum watercraft and visitor use. The Proposed Action (Alternative E) manages the level of recreational use while protecting the environment and the outstandingly remarkable values. The Proposed Action minimizes potential impacts to the fisheries resource and increases fishing opportunities. The Proposed Action also maximizes floating opportunities. Except for commercial motorized tour boats, commercial motorized angling boats, and special boating events, overall recreational use levels would be unregulated and continue to increase until the use limit is reached. The number of permits for commercial motorized tour boats, commercial motorized angling boats, and special boating events is unchanged from the current level, however, limited changes are recommended to reduce visitor use conflicts.

DATES: Release of the FEIS initiates a 30-day review period.

ADDRESSES: Comments should be addressed to Chris Dent, Rogue River Manager, Grants Pass Resource Area, Bureau of Land Management, Medford District Office, 3040 Biddle Road, Medford, Oregon 97504. Individual copies of the FEIS may be obtained by contacting the Planning Team Leader, Cori Cooper, at (541) 618-2428.

Comments, including names and addresses, will be available for public review. Individual respondents may request confidentiality. If you wish to withhold your name and/or address from public review or from disclosure under the Freedom of Information Act, you must state this prominently at the beginning of your written comment. Such requests will be honored to the extent allowed by law.

Dated: November 13, 2002.
Lynda L. Boody,
Acting, District Manager, BLM Medford District Office.

[FR Doc. 03-5302 Filed 3-20-03; 8:45 am]

BILLING CODE 4310-AG-P